DEPARTMENT OF TRANSPORTATION

Federal Transit Administration

Solicitation of Nominations for Members of the Transit Rail Advisory Committee for Safety (TRACS)

AGENCY: Federal Transit Administration, DOT.

ACTION: Notice to solicit nominees.

SUMMARY: The Federal Transit Administration (FTA) is seeking nominees to serve on TRACS. The Advisory Committee meets twice a year to advise FTA on transit safety issues. On February 1, 2010, FTA issued an initial notice (75 FR 5172) soliciting nominations to serve on TRACS. From that solicitation, 21 members were chosen, each representing a broad base of expertise relating to rail transit safety. The FTA Administrator (Administrator) has since determined that he would like to seek additional members to serve on TRACS. Specifically, the Administrator would like to augment the TRACS' existing knowledge base with professionals who have done academic research in the safety field.

DATES: Applications must be submitted no later than May 27, 2011.

FOR FURTHER INFORMATION CONTACT: Bruce Walker, Acting Designated Federal Officer, Office of Safety and Security, Federal Transit Administration, 202-366-0235 or Bruce.Walker@dot.gov. Applications should be submitted to TRACS@dot.gov or mailed to the Federal Transit Administration, Office of Safety and Security, Room E46-338, 1200 New Jersey Avenue, SE., Washington, DC 20590.

SUPPLEMENTARY INFORMATION:

I. Background

The Secretary of Transportation established TRACS for the purpose of providing a forum for the development, consideration, and communication of information from knowledgeable and independent perspectives regarding transit rail safety. Currently, the TRACS committee consists of members representing key constituencies affected by rail transit safety requirement, including rail safety experts, labor unions, transit agencies, and State safety oversight agencies. The FTA Administrator is now seeking to increase the representation from members of the academic community. Qualified individuals interested in serving on this committee are invited to apply to FTA for appointment. The nominees should be knowledgeable of the rail transit industry and shall have conducted research on the emerging trends or issues related to rail transit safety. The nominees will be evaluated mainly on academic experience but also the following factors: Leadership and organizational skills, region of country represented, and diversity characteristics. Each nomination should include: Proposed committee member's name and organizational affiliation, a cover letter describing the nominee's qualifications or interest in serving on the committee, a curriculum vitae or resume of the nominee's qualifications. Self-nominations are acceptable and each submission should include the following contact information: Nominee's name, address, phone number, fax number, and e-mail address. FTA prefers electronic submissions for all applications to TRACS@dot.gov. Applications will also be accepted via U.S. mail at the address identified in the FOR FURTHER INFORMATION CONTACT section of this notice. All applications must be submitted by May 27, 2011.

The TRACS meets approximately twice a year, usually in Washington, DC, but may meet more frequently or via conference call if the need arises. Members serve at their own expense and receive no salary from the Federal Government. FTA retains authority to review the participation of any TRACS member and to recommend changes at any time. TRACS meetings will be open to the public and one need not be a member of TRACS to attend. Interested parties may view the charter at TRACS@dot.gov. The Secretary of Transportation, in consultation with the FTA Administrator will be making the final selections.

Therese McMillan,
Deputy Administrator.

[FR Doc. 2011-10210 Filed 4-22-11; 4:15 pm]

BILLING CODE P